DEPARTMENT OF DEFENSE

Department of the Army

[Docket ID USA-2021-HQ-0007]

Submission for OMB Review; Comment Request

AGENCY: U.S. Army Corps of Engineers, Department of Defense (DoD).

ACTION: 30-Day information collection notice.

SUMMARY: The Department of Defense has submitted to OMB for clearance the following proposal for collection of information under the provisions of the Paperwork Reduction Act.

DATES: Consideration will be given to all comments received by March 14, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, or whs.mc-alex.esd.mbx.dd-dod-information-collections@mail.mil.

SUPPLEMENTARY INFORMATION: Title; Associated Form; and OMB Number: Benefits of Puerto Rico Beaches; OMB Control Number 0710-CBRS.

Type of Request: New.

Number of Respondents: 2050.

Responses per Respondent: 1.

Annual Responses: 2050.

Average Burden per Response: 15 minutes.

Annual Burden Hours: 512.5.

Needs and Uses: The purpose of this study is to employ necessary methods of welfare economics for analyzing the net economic value of beach re-nourishment. The U.S. Army Corps of Engineers Principles and Guidelines stipulates that when beach visitation exceeds the 750,000 annual visitation threshold, contingent valuation or travel cost method are the required metrics for measuring benefits accruing from recreation. This study will produce empirical estimates of economic value of beach replenishment, focusing on recreation value, how recreation value varies with programmatic attributes, and economic impacts stemming from changes in recreation and recreation value. This study will employ utility-theoretic micro-econometric models, with revealed and stated preference data, and will focus on San Juan, Puerto Rico. This project is being conducted as part of the Puerto Rico Coastal Study and the San Juan Metro Area, Puerto Rico Study. Section 204 of the River and Harbor Act of 1970 (Pub. L. 91-611) authorizes the Secretary of the Army, acting though the Chief of Engineers, to prepare plans for the development, utilization and conservation of water and related land resources of drainage basins and coastal areas in the Commonwealth of Puerto Rico. The project consists of two distinct survey collections. The “Puerto Rico Beaches” survey will measure beach visitation and erosion management preferences for Puerto Rico residents, and the “Caribbean Visitor Survey” will measure beach visitation and erosion management preferences for U.S. visitors to Puerto Rico.

Affected Public: Individuals or households.

Frequency: On occasion.

Respondent's Obligation: Voluntary.

OMB Desk Officer: Mr. Vlad Dorjets.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: February 7, 2022.
Aaron T. Siegel,
Alternate OSD Federal Register Liaison Officer, Department of Defense.

[FR Doc. 2022-02991 Filed 2-10-22; 8:45 am]

BILLING CODE 5001-06-P